DEPARTMENT OF THE TREASURY

Fiscal Service

Renegotiation Board Interest Rate; Prompt Payment Interest Rate; Contract Disputes Act

AGENCY: Bureau of the Public Debt, Fiscal Service, Treasury.

ACTION: Notice.

SUMMARY: For the period beginning July 1, 2004 and ending on December 31, 2004, the prompt payment interest rate is 4.500 per centum per annum.

ADDRESSES: Comments or inquiries may be mailed to Mitzie Johnson, Acting Team Leader, Borrowings Accounting Team, Division of Accounting Operations, Office of Public Debt Accounting, Bureau of the Public Debt, Parkersburg, West Virginia 26106-1328. A copy of this Notice will be available to download from http://www.publicdebt.treas.gov.

DATES: This notice announces the applicable interest rate for the July 1, 2004 to December 31, 2004 period.

FOR FURTHER INFORMATION CONTACT: Stephanie Brown, Director, Division of Accounting Operations, Office of Public Debt Accounting, Bureau of the Public Debt, Parkersburg, West Virginia 26106-1328, (304) 480-5181; Mitzie Johnson, Acting Team Leader, Borrowings Accounting Team, Division of Accounting Operations, Office of the Public Debt Accounting, Bureau of the Public Debt, Parkersburg, West Virginia 26106-1328, (304) 480—5166; Edward C. Gronseth, Deputy Chief Counsel, Office of the Chief Counsel, Bureau of the Public Debt, (304) 480-8692); or Latisha R. Brown, Attorney-Adviser, Office of the Chief Counsel, Bureau of the Public Debt, (202) 504-3710.

SUPPLEMENTARY INFORMATION: Although the Renegotiation Board is no longer in existence, other Federal Agencies are required to use interest rates computed under the criteria established by the Renegotiation Act of 1971 Sec. 2, Public Law 92-41, 85 Stat. 97. For example, the Contracts Disputes Act of 1978 Sec. 12, Public Law 95-563, 92 Stat. 2389 and, indirectly, the Prompt Payment Act of 1982, 31 U.S.C. 3902(a), provide for the calculation of interest due on claims at a rate established by the Secretary of the Treasury for the Renegotiation Board under Public Law 92-41.

Therefore, notice is given that the Secretary of the Treasury has determined that the rate of interest applicable, for the period beginning July 1, 2004 and ending on December 31, 2004, is 4.500 per centum per annum. This rate is determined pursuant to the above-mentioned sections for the purpose of said sections.

Dated: June 24, 2004.
Donald V. Hammond,
Fiscal Assistant Secretary.

[FR Doc. 04-14690 Filed 6-28-04; 8:45 am]

BILLING CODE 4810-39-M